DEPARTMENT OF THE INTERIOR

Bureau of Land Management

[LLIDC00000.L11500000.MO0000.241A.0; 4500022635]

Notice of Public Meeting, Coeur d'Alene District Resource Advisory Council Meeting; Idaho

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Coeur d'Alene District Resource Advisory Council (RAC) will meet as indicated below.

DATES: September 13, 2011. The meeting will begin at 8:30 a.m. and end no later than 2:30 p.m. The public comment period will be held from 10 a.m. to 10:30 a.m. The meeting will be held at the Blue Creek Bay Recreation Site located six miles east of Coeur d'Alene, Idaho off of Interstate 90 exit 22.

FOR FURTHER INFORMATION CONTACT: Suzanne Endsley, RAC Coordinator, BLM Coeur d'Alene District, 3815 Schreiber Way, Coeur d'Alene, Idaho 83815 or telephone at (208) 769-5004.

SUPPLEMENTARY INFORMATION: The 15-member RAC advises the Secretary of the Interior, through the Bureau of Land Management, on a variety of planning and management issues associated with public land management in Idaho. The agenda will include a site visit to the developed recreation site at Blue Creek Bay and the historic Mullan Trail Road. The meeting will also include discussion about vegetation treatment projects in the Coeur d'Alene District. Additional agenda topics or changes to the agenda will be announced in local press releases. More information is available at http://www.blm.gov/id/st/en/res/resource_advisory.html.

All meetings are open to the public. The public may present written comments to the RAC in advance of or at the meeting. Each formal RAC meeting will also have time allocated for receiving public comments. Depending upon the number of persons wishing to comment and time available, the time for individual oral comments may be limited. Individuals who plan to attend and need special assistance, such as sign language interpretation or other reasonable accommodations, should contact the BLM as provided above.

Dated: July 29, 2011.
Gary D. Cooper,
District Manager.

[FR Doc. 2011-20125 Filed 8-8-11; 8:45 am]

BILLING CODE 4310-GG-P